FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 9, 2003.

A. Federal Reserve Bank of Atlanta (Sue Costello, Vice President) 1000 Peachtree Street, N.E., Atlanta, Georgia 30303:

1. L. Michael Ashbrook, Monroe, Louisiana, and Charles Bruce, Cut Off, Louisiana; to acquire up to 40 percent of the voting shares of FBT Bancorp, Inc., Baton Rouge, Louisiana, and thereby indirectly acquire voting shares of Fidelity Bank and Trust Company, Baton Rouge, Louisiana.

B. Federal Reserve Bank of Minneapolis (Richard M. Todd, Vice President and Community Affairs Officer) 90 Hennepin Avenue, Minneapolis, Minnesota 55480-0291:

1. Richard M. Wall, Burnsville, Minnesota; John K. Wall, Excelsior, Minnesota; and Elizabeth Wall Lee, Mendota Heights, Minnesota, as a group acting in concert, to gain control of Highland Bancshares, Inc., Bloomington, Minnesota, and thereby indirectly gain control of Highland Bank, St,. Michael, Minnesota.

Board of Governors of the Federal Reserve System, December 19, 2002.
Robert deV. Frierson,
Deputy Secretary of the Board.

[FR Doc. 02-32436 Filed 12-23-02; 8:45 am]

BILLING CODE 6210-01-S